DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having an effect in order to qualify or remain qualified for participation in the Federal Emergency Management Agency's (FEMA's) National Flood Insurance Program (NFIP).

DATES: The date of September 19, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Kristin E. Fontenot,
Assistant Administrator, Risk Analysis, Planning & Information Directorate, Federal Emergency Management Agency, Department of Homeland Security.

Community | Community map repository address
Mendocino County, California and Incorporated Areas
Docket No.: FEMA-B-2281
City of Ukiah | City Hall, 300 Seminary Avenue, Ukiah, CA 95482.
Unincorporated Areas of Mendocino County | Mendocino County Planning and Building Services Department, 860 North Bush Street, Ukiah, CA 95482.
Greene County, Missouri and Incorporated Areas
Docket No.: FEMA-B-1914, FEMA-B-2379
City of Ash Grove | City Hall, 100 West Main Street, Ash Grove, MO 65604.
City of Battlefield | City Hall, 5434 South Tower Drive, Battlefield, MO 65619.
City of Fair Grove | City Hall, 81 South Orchard Boulevard, Fair Grove, MO 65648.
City of Republic | City Hall, 4221 South Wilson's Creek Boulevard, Republic, MO 65738.
City of Springfield | Busch Municipal Building, 840 North Boonville Avenue, Springfield, MO 65802.
City of Strafford | City Hall, 126 South Washington Avenue, Strafford, MO 65757.
City of Willard | City Hall, 224 West Jackson Street, Willard, MO 65781.
Unincorporated Areas of Greene County | Greene County Courthouse, 940 North Boonville Avenue, Springfield, MO 65802.
Franklin County, North Carolina and Incorporated Areas
Docket No.: FEMA-B-2389
Unincorporated Areas of Franklin County | Franklin County Planning and Inspections, 127 South Bickett Boulevard, Louisburg, NC 27549.
Halifax County, North Carolina and Incorporated Areas
Docket No.: FEMA-B-2389
City of Roanoke Rapids | Planning and Development Department, 1040 Roanoke Avenue, First Floor, Roanoke Rapids, NC 27870.
Town of Enfield | Town Hall, 121 Southeast Railroad Street, Enfield, NC 27823.
Town of Halifax | Town Hall, 24 South King Street, Halifax, NC 27839.
Town of Scotland Neck | Town Hall, 1310 Main Street, Scotland Neck, NC 27874.
Town of Weldon | Town Hall, 109 Washington Avenue, Weldon, NC 27890.
Unincorporated Areas of Halifax County | Halifax County Planning and Zoning, 15 West Pittsylvania Street, Halifax, NC 27839.
Nash County, North Carolina and Incorporated Areas
Docket No.: FEMA-B-2389
Unincorporated Areas of Nash County | Nash County Planning Department, 120 West Washington Street, Suite 2110, Nashville, NC 27856.
Warren County, North Carolina and Incorporated Areas
Docket No.: FEMA-B-2389
Town of Warrenton | Town Hall, 113 South Bragg Street, Warrenton, NC 27589.
Unincorporated Areas of Warren County | Warren County Planning Department, 542 West Ridgeway Street, Warrenton, NC 27589.
Golden Valley County, North Dakota and Incorporated Areas
Docket No.: FEMA-B-2426
City of Beach | City Hall, 153 East Main Street, Beach, ND 58621.
Unincorporated Areas of Golden Valley County | Golden Valley County Courthouse, 150 1st Avenue SE, Beach, ND 58621.
Charlotte County, Virginia and Incorporated Areas
Docket No.: FEMA-B-2432
Town of Charlotte Court House | Town Office, 350 George Washington Highway, Charlotte Court House, VA 23923.
Town of Drakes Branch | Town Office, 4801 Drakes Branch Main Street, Drakes Branch, VA 23937.
Town of Phenix | Town Office, 6860 Phenix Main Street, Phenix, VA 23959.
Unincorporated Areas of Charlotte County | Charlotte County Administration Building, 250 LeGrande Avenue, Suite A, Charlotte Court House, VA 23923.
Hardin County, Illinois and Incorporated Areas
Docket No.: FEMA-B-2179, FEMA-B-2408
City of Rosiclare | City Hall, 632 Main Street, Rosiclare, IL 62982.
Unincorporated Areas of Hardin County | Hardin County Courthouse, 102 East Market Street, Elizabethtown, IL 62931.

[FR Doc. 2025-06601 Filed 4-16-25; 8:45 am]

BILLING CODE 9110-12-P